DEPARTMENT OF ENERGY

Federal Energy Regulatory Commission

[Docket No. CP06-427-000]

Natural Gas Pipeline Company of America; Notice of Request Under Blanket Authorization

August 2, 2006.

Take notice that on July 26, 2006, Natural Gas Pipeline Company of America (Natural), 747 East 22nd Street, Lombard, Illinois 60148, filed in Docket No. CP06-427-000, a request pursuant to sections 157.205 and 157. 208 of the Commission's regulations under the Natural Gas Act and its blanket certificate issued in Docket No CP82-402-000 for authorization to replace approximately 4.34 miles of Natural's 30-inch Louisiana Mainline No. 1 line in Liberty County, Texas with new, heavier walled 30-inch pipeline in an adjacent right-of-way at a cost of approximately $11.9 million. This filing is available for review at the Commission in the Public Reference Room or may be viewed on the Web at http://www.ferc.gov using the “eLibrary” link. Enter the docket number excluding the last three digits in the docket number field to access the document. For assistance, contact FERC at FERCOnlineSupport@gerc.gov or call toll-free, (886) 208-3676 or TYY, (202) 502-8659.

Natural states that in order to continue to operate this segment of its pipeline system at current, required operating pressures, the subject 4.34 mile long segment of pipe must be upgraded to a higher classification of pipe. Due to residential congestion that has built up along natural's Louisiana Mainline No. 1 easement, Natural finds that it will be impossible to replace the pipe along the existing right-of-way easement for the entire 4.34 miles.

Any person or the Commission's Staff may, within 45 days after the issuance of the instant notice by the Commission, file pursuant to Rule 214 of the Commission's Procedural Rules (18 CFR 385.214) a motion to intervene or notice of intervention and, pursuant to Section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Any questions regarding this application should be directed to Bruce H. Newsome, Vice President, Rates and Certificates, Natural Gas Pipeline Company of America, 747 East 22nd Street, Lombard, Illinois 60148-5072, or call (630) 691-3526 or fax (630) 691-3553.

The Commission strongly encourages electronic filings of comments, protests, and interventions via the internet in lieu of paper. See 18 CFR 385.2001(a) (1) (iii) and the instructions on the Commission's Web site (http://www.ferc.gov) under the “e-Filing” link.

Magalie R. Salas,
Secretary.

[FR Doc. E6-13045 Filed 8-9-06; 8:45 am]

BILLING CODE 6717-01-P